DEPARTMENT OF COMMERCE

International Trade Administration

[A-560-835, A-485-809]

Common Alloy Aluminum Sheet From Indonesia and Romania: Postponement of Final Determinations of Less-Than-Fair-Value Investigations

AGENCY: Enforcement and Compliance, International Trade Administration, Department of Commerce.

SUMMARY: The Department of Commerce (Commerce) is postponing the deadline for issuing the final determinations in the less-than-fair-value (LTFV) investigations of imports of common alloy aluminum sheet (aluminum sheet) from Indonesia and Romania, until March 1, 2021. Commerce is also extending the provisional measures from a four-month period to a period of not more than six months.

DATES: Applicable November 6, 2020.

FOR FURTHER INFORMATION CONTACT: Glenn T. Bass Jr. and John K. Drury, AD/CVD Operations, Office VI, Enforcement and Compliance, International Trade Administration, U.S. Department of Commerce, 1401 Constitution Avenue NW, Washington, DC 20230; telephone: (202) 482-8338 and (202) 482-0195, respectively.

SUPPLEMENTARY INFORMATION:

Background

On March 30, 2020, Commerce initiated LTFV investigations of imports of aluminum sheet from Indonesia and Romania.¹ The period of investigation is January 1, 2019 through December 31, 2019. On October 15, 2020, Commerce published the Preliminary Determinations in these LTFV investigations.²

¹ See Common Alloy Aluminum Sheet from Bahrain, Brazil, Croatia, Egypt, Germany, Greece, India, Indonesia, Italy, Republic of Korea, Oman, Romania, Serbia, Slovenia, South Africa, Spain, Taiwan, and the Republic of Turkey: Initiation of Less-Than-Fair-Value Investigations, 85 FR 19444 (April 7, 2020).

² See Common Alloy Aluminum Sheet from Indonesia: Preliminary Affirmative Determination of Sales at Less-Than-Fair-Value and Determination of Critical Circumstances, 85 FR 65356 (October 15, 2020); and Common Alloy Aluminum Sheet from Romania: Preliminary Affirmative Determination of Sales at Less Than Fair Value, 85 FR 65358 (October 15, 2020) (together, Preliminary Determinations).

Postponement of Final Determinations

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioner. Further, 19 CFR 351.210(e)(2) requires that such postponement requests by exporters be accompanied by a request for extension of provisional measures from a four-month period to a period of not more than six months, in accordance with section 733(d) of the Act.

On October 7, 2020, Pt. Alumindo Light Metal Industry, Tbk. (Pt. Alumindo), the sole mandatory respondent in the investigation of aluminum sheet from Indonesia, requested that Commerce postpone the deadline for the final determination until no later than 135 days from the publication of the Preliminary Determination, and extend the application of the provisional measures from a four-month period to a period of not more than six months.³

³ See PT. Alumindo Light Metal Industry Tbk's Letter, “Pt. Alumindo's Request to Extend the Final Determination: Less Than Fair Value Investigation of Common Alloy Aluminum Sheet from Indonesia (A-560-835),” dated October 7, 2020.

On October 8, 2020, Alro, SA and the Vimetco Group (collectively, Alro), the sole mandatory respondent in the investigation of aluminum sheet from Romania, requested that Commerce postpone the deadline for the final determination until no later than 135 days from the publication of the Preliminary Determination, and extend the application of the provisional measures from a four-month period to a period of not more than six months.⁴

⁴ See Alro, SA and the Vimetco Group's Letter, “Alro's Request to Extend the Final Determination: Less Than Fair Value Investigation of Common Alloy Aluminum Sheet from Romania (A-485-809),” dated October 8, 2020.

In accordance with section 735(a)(2)(A) of the Act and 19 CFR 351.210(b)(2)(ii), because: (1) The preliminary determination was affirmative; (2) the request was made by the exporter and producer who accounts for a significant proportion of exports of the subject merchandise; and (3) no compelling reasons for denial exist, Commerce is postponing the final determination for these investigations until no later than 135 days after the date of the publication of the Preliminary Determination, and extending the provisional measures from a four-month period to a period of not more than six months. Accordingly, Commerce will issue its final determinations no later than March 1, 2021.

Notice to Interested Parties

This notice is issued and published pursuant to section 735(a)(2) of the Act and 19 CFR 351.210(g).

Dated: November 2, 2020.
Jeffrey I. Kessler,
Assistant Secretary for Enforcement and Compliance.

[FR Doc. 2020-24700 Filed 11-5-20; 8:45 am]

BILLING CODE 3510-DS-P